DEPARTMENT OF STATE

[Public Notice: 11910]

Department of State Performance Review Board Members

ACTION: Notice of members for the Performance Review Board.

SUMMARY: The Department of State (DOS) announces the persons who will service on the Senior Executive Service 2022 Performance Review Board.

DATES: This appointment is effective October 19, 2022.

ADDRESSES: This action is being taken in accordance with Title 5, U.S.C., section 4314(c)(4), which requires that members of performance review boards be appointed in a manner to ensure consistency, stability, and objectivity in performance appraisals and requires that notice of the appointment of an individual to serve as a member be published in the Federal Register.

FOR FURTHER INFORMATION CONTACT: Patricia Wai, Deputy Director Bureau of Global Talent Management, Division of Civil Service Talent Management, Department of State, 2401 E Street NW, Washington, DC 20037 202-663-2147.

SUPPLEMENTARY INFORMATION: The membership of the Department of State Performance Review Board is as follows:

Erin M. Barclay—Chair

Kerry Neal

Hilary Batjer Johnson

Anne Joyce

Sherry Hannah

Jeremy Bernton

Jane Rhee

Suzanne George

Kim R. Bruner,
Director, Bureau of Global Talent Management, Civil Service Talent Management, Department of State.

[FR Doc. 2022-23979 Filed 11-3-22; 8:45 am]

BILLING CODE 4710-15-P